DEPARTMENT OF HEALTH AND HUMAN SERVICES

Centers for Disease Control and Prevention

Stigma Meeting

In accordance with section 10(a)(2) of the Federal Advisory Committee Act (Pub. L. 92-463), the Centers for Disease Control and Prevention (CDC) Announces the Following Meeting

Name: Stigma Meeting.

Time and Date: 9:30 a.m.-4 p.m., June 9, 2000.

Place: Hyatt Regency Hotel, 265 Peachtree Street, Atlanta, Georgia 30303.

Status: Open to the public, limited only by the space available. The meeting room accommodates approximately 54 people.

Purpose: To discern the role of stigma in communications efforts directed at HIV positive and negative persons. To consult and collaborate with leading experts to develop strategies for future efforts in prevention and to fine tune existing communications plans. Our continued efforts to reach those at highest-risk for HIV will necessitate collaboration among organizations and audiences infrequently reached through CDC's traditional methods.

Matters To Be Discussed: Agenda items include an overview of the stigma issue, presentations on research on stigma and HIV, and an expert panel discussion of public health and private sector efforts which could together begin to counter stigma associated with HIV testing and early entrance into care.

FOR FURTHER INFORMATION CONTACT: Michelle Bonds, National Center for HIV, STD, and TB Prevention, Office of Communications, 1600 Clifton Road, NE, M/S E-07, Atlanta, Georgia 30333, telephone 404/639-8890.

The Director, Management Analysis and Services Office, has been delegated the authority to sign Federal Register Notices pertaining to announcements of meetings and other committee management activities, for both the Centers for Disease Control and Prevention and the Agency for Toxic Substances and Disease Registry.

Dated: May 3, 2000.
Carolyn J. Russell,
Director, Management Analysis and Services Office, Centers for Disease Control and Prevention.

[FR Doc. 00-11793 Filed 5-10-00; 8:45 am]

BILLING CODE 4163-18-P